SOCIAL SECURITY ADMINISTRATION

Privacy Act of 1974, as Amended; Altered System of Records

AGENCY: Social Security Administration (SSA)

ACTION: Altered system of records.

SUMMARY: In accordance with the Privacy Act (5 U.S.C. 552a(e)(4)), we are issuing public notice of our intent to alter an existing system of records, the Master Representative Payee File, 60-0222. The proposed alterations will result in an expansion of the existing categories of records maintained in the Master Representative Payee File to include:

(1) Information about representative payee applicants who have been convicted of an offense resulting in more than one (1) year imprisonment;

(2) Information about representative payee applicants or payees who have an outstanding felony warrant; and

(3) Information about specific types of organizations which, having met certain requirements, may apply and be permitted to charge a fee for their payee services.

All of the proposed alterations are discussed in the Supplementary Information section below. We invite public comment on this proposal.

DATES: We filed a report of the proposed altered system of records with the Chairman of the Senate Committee on Homeland Security and Governmental Affairs, the Chairman of the House Committee on Government Reform, and the Director, Office of Information and Regulatory Affairs, Office of Management and Budget on January 23, 2006. The proposed altered system of records will become effective on March 6, 2006, unless we receive comments warranting it not to become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Margo Wagner, Social Insurance Specialist, Disclosure Policy Team, Office of Public Disclosure, Office of the General Counsel, Social Security Administration, in Room 3-A-6 Operations Building, 6401 Security Boulevard, Baltimore, Maryland 21235-6401, telephone at (410) 965-1482, e-mail: margo.wagner@ssa.gov.

SUPPLEMENTARY INFORMATION:

I. Background and Purpose of the Proposed Alterations to the Master Representative Payee File System of Records

A. General Background

The Master Representative Payee File system of records maintains information that Social Security field offices use when screening applicants to determine suitability as representative payees for Social Security claimants and beneficiaries who are incapable of handling their Social Security benefits and those who are required by law to have payees. The Master Representative Payee File system of records currently maintains records about all payees and payee applicants, including persons whose certifications as representative payees have been revoked or terminated on or after January 1, 1991; persons who have been convicted of a violation of section 208 or 1632 of the Social Security Act (the Act); persons convicted under other statutes in connection with services as a representative payee; and others whose certification as a representative payee SSA has revoked due to misuse of funds paid under Title II or Title XVI of the Act. The system also houses information on persons who are acting or have acted as representative payees; representative payee applicants who were not selected to serve as representative payees; and beneficiaries/applicants who are being served by representative payees.

B. Discussion of Proposed Alterations to the Master Representative Payee File System of Records

The Social Security Protection Act of 2004 (Pub. L. 108-203) amended section 205(j) of the Act. The amendment, which came into effect April 1, 2005, mandates that SSA not appoint payees, or permit the continued payee service of those payees, with certain types of criminal behaviors. To effectuate this provision which affords better protection to Social Security beneficiaries in need of a representative payee, SSA proposes an expansion of the collection of data in the application process to include:

1. Information about applicants wanting to serve as representative payees who have been imprisoned for more than one (1) year, and

2. Information about payees or payee applicants who have an outstanding fugitive felon warrant.

In addition to the above, under provisions in section 205(j) in existence prior to the implementation of Pub. L. 108-203, SSA will collect information about specific types of organizations which, having met certain requirements, may apply and be permitted to charge a fee for their payee services.

II. Record Storage Medium and Safeguards for the Information Maintained in the Proposed Altered Master Representative Payee File System of Records

The Master Representative Payee File system of records maintains information in electronic and manual forms. Only authorized SSA personnel that have a need for the information in the performance of their official duties are permitted access to the information. Security measures include the use of access codes to enter the computer system that will maintain the data and storage of the computerized records in secured areas that are accessible only to employees who require the information in performing their official duties. Manually maintained records are kept in locked cabinets or in otherwise secure areas.

III. Effect of the Proposed Alterations to the Master Representative Payee File System of Records on the Rights of Individuals

The proposed alterations to the Master Representative Payee File system of records pertain to SSA's responsibilities in collecting and maintaining information about representative payee applicants for Social Security beneficiaries in cases in which the Commissioner of Social Security has determined that the interests of the beneficiaries would be better served by their having a representative payee. We will adhere to all applicable statutory requirements, including those under the Act and the Privacy Act, in carrying out our responsibilities. Therefore, we do not anticipate that the proposed alterations will have an unwarranted adverse effect on the rights of individuals.

Dated: January 23, 2006.
Jo Anne B. Barnhart,
Commissioner.

System number:

60-0222.

System name:

Master Representative Payee File, Social Security Administration, Office of Income Security Programs.

Security classification:

None.

System Location:

National Computer Center, Social Security Administration, 6201 Security Boulevard, Baltimore, MD 21235. The system database will be available by direct electronic access by Social Security field offices (FO).

FO addresses and telephone numbers can be found in local telephone directories under “Social Security Administration,” (SSA) or by accessing www.ssa.gov/regions/regional.html.

Categories of individuals covered by the system:

This system maintains information about all payees and payee applicants, including persons whose certifications as representative payees have been revoked or terminated on or after January 1, 1991; persons who have been convicted of a violation of section 208 or section 1632 of the Social Security Act, persons convicted under other statutes in connection with services as a representative payee, and others whose certification as a representative payee SSA has revoked due to misuse of funds paid under Title II and Title XVI of the Social Security Act; persons who are acting or have acted as representative payees; representative payee applicants who were not selected to serve as representative payees; representative payee applicants who have been convicted of an offense resulting in more than one (1) year imprisonment; payees and payee applicants who have an outstanding felony warrant; organizational payees who have been authorized to collect a fee for their service; and beneficiaries/applicants who are being served by representative payees.

Categories of records in the system:

Records in this system consist of:

1. Names and Social Security numbers (SSNs) (or employer identification numbers (EINs)) of representative payees whose certifications for payment of benefits as representative payees have been revoked or terminated on or after January 1, 1991, because of misuse of benefits under Title II or Title XVI of the Social Security Act;

2. Names and SSNs (or EINs) of all persons convicted of violations of sections 208 or 1632 of the Social Security Act;

3. Names, addresses, and SSNs (or EINs) of persons convicted of violations of statutes other than sections 208 and 1632 of the Social Security Act, when such violations were committed in connection with the individual's service as a Social Security representative payee;

4. Names, addresses, SSNs, and information about the crime reported by the payee for those who have an outstanding felony warrant or who have been imprisoned for a period exceeding one (1) year. (An indicator will be used in the system to identify persons identified as having an outstanding felony warrant);

5. Names, addresses, and SSNs (or EINs) of representative payees who are receiving benefit payments pursuant to section 205(j) or section 1631(a)(2) of the Social Security Act;

6. Names, addresses, and SSNs of individuals for whom representative payees are reported to be providing representative payee services under section 205(j) or section 1631(a)(2) of the Social Security Act;

7. Names, addresses, and SSNs of representative payee applicants who were not selected as representative payees;

8. Names, addresses, and SSNs of persons who were terminated as representative payees for reasons other than misuse of benefits paid to them on behalf of beneficiaries/recipients;

9. Information on the representative payee's relationship to the beneficiaries/recipients they serve;

10. Names, addresses, EINs and qualifying information of organizations authorized to charge a fee for providing representative payee services;

11. Codes which indicate the relationship (other than familial) between the beneficiaries/recipients and the individuals who have custody of the beneficiaries/recipients;

12. Dates and reasons for payee terminations (e.g., performance not acceptable, death of payee, beneficiary in direct payment, etc.) and revocations;

13. Codes indicating whether representative payee applicants were selected or not selected;

14. Dates and reasons representative payee applicants were not selected to serve as payees and dates and reasons for changes of payees (e.g., beneficiary in direct payment, etc.);

15. Amount of benefits misused;

16. Identification number assigned to the claim on which the misuse occurred;

17. Date of the determination of misuse; and

18. Information about a felony conviction reported by the representative payee.

Authority for maintenance of the system:

Sections 205(a), 205(j), 1631(a) of the Social Security Act, and the Social Security Protection Act of 2004 (Pub. L. 108-203).

Purpose(s):

Information maintained in this system will assist SSA in the representative payee selection process by enabling Social Security field offices to more carefully screen applicants and to determine their suitability to become representative payees. SSA also will use the data for management information and workload projection purposes and to prepare annual reports to Congress on representative payee activities.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To the Department of Justice (DOJ), a court or other tribunal, or another party before such tribunal, when:

(a) The Social Security Administration (SSA), or any component thereof; or

(b) Any SSA employee in his/her official capacity; or

(c) Any SSA employee in his/her individual capacity where DOJ (or SSA, where it is authorized to do so) has agreed to represent the employee; or

(d) The United States or any agency thereof where SSA determines that the litigation is likely to affect SSA or any of its components,

Is a party to litigation or has an interest in such litigation, and SSA determines that the use of such records by DOJ, a court or other tribunal, or another party before the tribunal, is relevant and necessary to the litigation, provided, however, that in each case, SSA determines that such disclosure is compatible with the purpose for which the records were collected.

2. To a congressional office in response to an inquiry from that office made at the request of the subject of the records.

3. To the General Services Administration and the National Archives Records Administration (NARA) under 44 U.S.C. § 2904 and § 2906, as amended by the NARA Act of 1984, information which is not restricted from disclosure by Federal law for the use of those agencies in conducting records management studies.

4. To the Department of Veterans Affairs, Regional Office, Manila, Philippines, for the administration of the Social Security Act in the Philippines and other parts of the Asia-Pacific region through services and facilities of that agency.

5. To the Department of State for administration of the Social Security Act in foreign countries through services and facilities of that agency.

6. To the American Institute, a private corporation under contract to the Department of State, for administering the Social Security Act on Taiwan through facilities and services of that agency.

7. To the Department of Justice for:

(a) Investigating and prosecuting violations of the Social Security Act to which criminal penalties attach,

(b) Representing the Commissioner of Social Security, and

(c) Investigating issues of fraud or violations of civil rights by officers or employees of the Social Security Administration.

8. To the Office of the President for responding to an inquiry received from that individual or from a third party acting on that individual's behalf.

9. To the Department of Veterans Affairs (DVA) for the shared administration of DVA's and the Social Security Administration's representative payee programs.

10. To contractors and other Federal Agencies, as necessary, for the purpose of assisting the Social Security Administration (SSA) in the efficient administration of its programs. We will disclose information under this routine use only in situations in which SSA may enter into a contractual or similar agreement to obtain assistance in accomplishing an SSA function relating to this system of records.

11. To a third party such as a physician, social worker, or community service worker, who has, or is expected to have, information which is needed to evaluate one or both of the following:

(a) The claimant's capability to manage or direct the management of his/her affairs.

(b) Any case in which disclosure aids investigation of suspected misuse of benefits, abuse or fraud, or is necessary for program integrity, or quality appraisal activities.

12. To a third party, where necessary, information pertaining to the identity of a payee or payee applicant, the fact of the person's application for or service as a payee, and, as necessary, the identity of the beneficiary, to obtain information on employment, sources of income, criminal justice records, stability of residence and other information relating to the qualifications and suitability of representative payees or representative payee applicants to serve as representative payees or their use of the benefits paid to them under section 205(j) or section 1631(a) of the Social Security Act.

13. To a claimant or other individual authorized to act on his/her behalf information pertaining to the address of a representative payee applicant or a selected representative payee when this information is needed to pursue a claim for recovery of misapplied or misused benefits.

14. To the Railroad Retirement Board (RRB) for the administration of RRB's representative payment program.

15. To student volunteers, individuals working under a personal services contract, and other workers who technically do not have the status of Federal employees, when they are performing work for the Social Security Administration (SSA), as authorized by law, and they need access to personally identifiable information in SSA records in order to perform their assigned Agency functions.

16. To the Office of Personnel Management (OPM) for the administration of OPM's representative payee programs.

17. To the Secretary of Health and Human Services or to any State, any record or information requested in writing by the Secretary for the purpose of administering any program administered by the Secretary, if records or information of such type were so disclosed under applicable rules, regulations and procedures in effect before the date of enactment of the Social Security Independence and Program Improvements Act of 1994.

Policies and practices for storing, retrieving, accessing, retaining and disposing of records in the system:

Storage:

Records are stored in magnetic media (e.g., magnetic tape, microfilm, and disc) and manual forms.

Retrievability:

Data are retrieved from the system by the SSN or the ZIP code and name (in a situation where the representative payee is an organization) of the representative payee, or the SSN of the beneficiary/recipient.

Safeguards:

For computerized records electronically transmitted between Central Office and FO locations (including organizations administering SSA programs under contractual agreements), safeguards include a lock/unlock password system, exclusive use of leased telephone lines, a terminal-oriented transaction matrix, and an audit trail. All microfilm files are accessible only by authorized personnel who have a need for the information in performing their official duties. Magnetic tapes are in secured storage areas accessible only to authorized personnel. Access http://www.socialsecurity.gov/foia/bluebook/app_g.htm for additional information relating to SSA data security measures.

Retention and disposal:

National Archives and Records Administration (NARA) guidelines will be followed for retention and disposal of records in the Master Representative Payee File. Changes are being made to the Master Representative Payee File to ensure NARA compliance. To prevent lost of data, back-up files are maintained on disk file cartridges and are destroyed after two weeks.

System manager(s) and address:

Associate Commissioner, Office of Income Security Programs, Social Security Administration, Room 252 Altmeyer Building, 6401 Security Boulevard, Baltimore, Maryland 21235.

Notification procedures:

An individual can determine if this system contains data about him/her by writing to the systems manager at the address shown above and providing his/her name, SSN or other information that may be in the system of records that will identify him/her. An individual requesting notification of data in person should provide the same information, as well as provide any identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for access to records concerning another individual under false pretense is a criminal offense.

These procedures are in accordance with SSA Regulations (20 CFR 401.40(c)).

Record access procedures:

Same as Notification procedures. Also, a requester should reasonably identify and specify the information he/she is attempting to obtain. These procedures are in accordance with SSA Regulations (20 CFR 401.40(c)).

Contesting record procedures:

Same as Notification procedures. Requester should also reasonably identify the record, specify the information they are contesting and the corrective action sought, and the reasons for the correction, with supporting justification showing how the record is incomplete, untimely, inaccurate or irrelevant. These procedures are in accordance with SSA Regulations (20 CFR 401.65(a)).

Record source categories:

Data in this system are obtained from representative payee applicants and representative payees, the SSA Office of Inspector General, and other SSA systems of records such as the Claims Folder System, 60-0089; Master Beneficiary Record, 60-0090; Supplemental Security Income Record and Special Veterans Benefits, 60-0103; Master Files of SSN Holders and SSN Applications, 60-0058; and Recovery of Overpayments, Accounting and Reporting, 60-0094.

Systems exempted from certain provisions of the Privacy Act:

None.

[FR Doc. E6-1319 Filed 1-31-06; 8:45 am]

BILLING CODE 4191-02-P